NATIONAL AERONAUTICS AND SPACE ADMINISTRATION

[Notice (05-127)]

NASA Aeronautics Research Advisory Committee, Aviation Safety and Security Program Subcommittee; Meeting

AGENCY: National Aeronautics and Space Administration.

ACTION: Notice of meeting.

SUMMARY: The National Aeronautics and Space Administration announces a forthcoming meeting of the NASA Aeronautics Research Advisory Committee (ARAC), Aviation Safety and Security Program Subcommittee.

DATES: Thursday, September 8, 2005, 9 a.m. to 5 p.m. and Friday, September 9, 2005, 8:30 a.m. to 1 p.m.

ADDRESSES: Air Line Pilots Association, 535 Herndon Parkway, Herndon, Virginia 20172.

FOR FURTHER INFORMATION CONTACT: Ms. Mary-Ellen McGrath, Aeronautics Research Mission Directorate, National Aeronautics and Space Administration, Washington, DC 20546, (202) 358-4729.

SUPPLEMENTARY INFORMATION: The meeting will be open to the public up to the seating capacity of the room. The agenda for the meeting is as follows:

—Opening Remarks.

—Review of the Aviation Safety and Security Program Subcommittee.

—Review of the Aviation Safety Projects (FY 2000-2005).

—Review of Aviation Security Projects (FY 2004-2009).

—Review of Barrier Breaking Technology Demonstration Projects (FY 2007-2011).

Attendees will be requested to sign a register. It is imperative that the meeting be held on these dates to accommodate the scheduling priorities of the key participants.

Dated: August 4, 2005.
P. Diane Rausch,
Advisory Committee Management Officer, National Aeronautics and Space Administration.

[FR Doc. 05-15846 Filed 8-10-05; 8:45 am]

BILLING CODE 7510-13-P